DEPARTMENT OF ENERGY

Federal Energy Regulatory Commission

[Docket No. CP00-64-001]

CNG Transmission Corporation; Notice of Amendment

March 1, 2000.

Take notice that on February 17, 2000 CNG Transmission Corporation (CNG), 445 West Main Street, Clarksburg, West Virginia 26301, filed in Docket No. CP00-64-001 an amendment to the pending application filed on December 29, 1999, in Docket No. CP00-64-000, pursuant to Sections 7(c) and 7(b) of the Natural Gas Act for a certificate of public convenience and necessity to construct and operate certain pipeline and compression facilities located in Pennsylvania and New York and approval to abandon a segment of a pipeline located in Pennsylvania, all as more fully set forth in the application which is on file with the Commission and open to public inspection. This filing may be viewed on the web at http://www.ferc.fed.us/online/rims.htm (call (202) 208-2222 for assistance).

By the pending application in Docket No. CP00-64-000, CNG proposes to construct and operate facilities in order to substitute its own transportation capacity for market area service entitlements that CNG currently holds on Tennessee Gas Pipeline Company pursuant to Contract No. 3919. Specifically, CNG proposes to: (1) Construct 13 miles of 30-inch pipeline, known as TL 474x2, to loop CNG's existing pipeline in Armstrong County, Pennsylvania; (2) install 4,450 horsepower (hp) of additional compression at Punxsutawney Station in Jefferson County, Pennsylvania; (3) install 2,400 hp of additional compression at Ardell Station in Elk County, Pennsylvania; (4) install 6,400 hp of compression at a new station, Little Greenlick Relay Station, in Potter County, Pennsylvania; (5) install 7,000 hp of compression at a new station site, Brookman Corners Station, in Montgomery County, New York; and (6) construct 800 feet of 30-inch pipeline, known as the Connector Line (TL-510), between TL-474x2 and LN-26 and LN-380 in Armstrong County, Pennsylvania. In addition, CNG proposes to abandon in place 12.9 miles of 12-inch pipeline in Armstrong County, Pennsylvania known as LN-9 and physically remove 700 feet of that line.

In the subject amendment, CNG seeks to modify its original request. CNG states that it now seeks approval to abandon by removal 9,600 feet of LN-9 instead of 700 feet as originally proposed.

Any questions regarding the application should be directed to Sean R. Sleigh, Manager of Certificates at (304) 623-8462, CNG Transmission Corporation, 445 West Main Street, Clarksburg, West Virginia 26301.

Any person desiring to be heard or to make any protest with reference to said amendment should on or before March 22, 2000, file with the Federal Energy Regulatory Commission, 888 First Street, NE, Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules. All persons who have heretofore filed need not file again.

David P. Boergers,
Secretary.

[FR Doc. 00-5441 Filed 3-6-00; 8:45 am]

BILLING CODE 6717-01-M